OFFICE OF THE UNITED STATES TRADE REPRESENTATIVE

2010 Special 301 Out of Cycle Review of Notorious Markets: Request for Public Comment

AGENCY: Office of the United States Trade Representative.

ACTION: Request for written submissions from the public.

SUMMARY: Pursuant to Section 182 of the Trade Act of 1974 (Trade Act) (19 U.S.C. 2242) the United States Trade Representative (USTR) issues an annual review of the global state of intellectual property rights (IPR) protection and enforcement, conducted by the Office of the United States Trade Representative (USTR), commonly referred to as the “Special 301 Report”. Included in this report is the “Notorious Markets” list, which is a compilation of examples of Internet and physical markets that have been the subject of enforcement action or that may merit further investigation for possible intellectual property infringements. The list does not represent a finding of violation of law, but rather is a summary of information USTR reviewed during the Special 301 process that serves to highlight the problem of marketplaces that deal in infringing goods and help sustain global piracy and counterfeiting.

In an effort to increase public awareness and guide related trade enforcement actions, USTR plans to begin publishing the notorious market list separately from the annual Special 301 report in which it has previously been included. USTR is hereby requesting written submissions from the public identifying potential Internet and physical notorious markets that exist outside the United States.

Deadline for interested parties to submit written comments: November 5, 2010.

ADDRESSES: All written comments should be sent electronically via http://www.regulations.gov, docket number USTR-2010-0029. Submissions should contain the term “2010 Special 301 Notorious Markets Review” in the “Type comment & Upload file” field on http://www.regulations.gov.

FOR FURTHER INFORMATION CONTACT: Kira M. Alvarez, Chief Negotiator and Deputy Assistant U.S. Trade Representative for Intellectual Property Enforcement, Office of the United States Trade Representative, at (202) 395-4510. Further information about Special 301 can be found at http://www.ustr.gov.

SUPPLEMENTARY INFORMATION:

1. Background

Global piracy and counterfeiting continue to thrive due in part to marketplaces that deal in infringing goods. The 2010 Special 301 Report provides, on pages 43-45, a list of markets, including those on the Internet, that have been the subject of enforcement action, or that may merit further investigation for possible IPR infringements, or both. The list represents a selective summary of information reviewed during the Special 301 process; it is not a finding of violations of law. In the report, the United States encourages the responsible authorities to step up efforts to combat piracy and counterfeiting in these and similar markets.

The 2010 Joint Strategic Plan on Intellectual Property Enforcement stated that USTR, in coordination with the office of the Intellectual Property Enforcement Coordinator, would initiate an interagency process to assess opportunities to further publicize and potentially expand on the notorious markets list in an effort to increase public awareness and guide related trade enforcement actions. As a result of that discussion, USTR has concluded that it can further publicize and potentially expand on the notorious markets list by publishing the notorious market list separately from the annual Special 301 report in which it has previously been included, following a separate, dedicated request for comments. USTR expects to publish the list on the earliest practicable date after receipt of public comments.

2. Public Comments

a. Written Comments

The Special 301 Subcommittee invites written submissions from the public concerning potential examples of Internet and physical “notorious markets.” Notorious markets are those where counterfeit or pirated products are prevalent to such a degree that the market exemplifies the problem of marketplaces that deal in infringing goods and help sustain global piracy and counterfeiting.

b. Requirements for Comments

Interested parties must submit written comments by November 5, 2010 at 5 p.m.

Written comments should be as detailed as possible and should clearly identify the reason or reasons why the nature or scope of activity associated with the identified market or markets exemplify the problem of marketplaces that deal in infringing goods and help sustain global piracy and counterfeiting.

Comments should also include the following information for identifying these markets assessing their impact: Location; principal owners/operators (if known); types of products sold, distributed, or otherwise made available; any known civil or criminal enforcement activity against the market; any other efforts to remove/limit infringing materials; any positive progress made. Any comments that include quantitative loss claims should be accompanied by the methodology used in calculating such estimated losses. Comments must be in English. All comments should be sent electronically via http://www.regulations.gov, docket number USTR-2010-0029.

To submit comments to http://www.regulations.gov, find the docket by entering the number USTR-2010-0029 in the “Enter Keyword or ID” window at the http://www.regulations.gov home page and click “Search.” The site will provide a search-results page listing all documents associated with this docket. Find a reference to this notice by selecting “Notice” under “Document Type” on the left side of the search-results page, and click on the link entitled “Submit a comment.” (For further information on using the http://www.regulations.gov Web site, please consult the resources provided on the Web site by clicking on “How to Use This Site” on the left side of the home page.)

The http://www.regulations.gov site provides the option of providing comments by filling in a “Type comment & Upload file” field, or by attaching a document. It is USTR's preference that comments be provided in an attached document. If a document is attached, please type “2010 Special 301 Notorious Markets Review” in the “Type comment & Upload file” field. USTR prefers submissions in Microsoft Word (.doc) or Adobe Acrobat (.pdf). If the submission is in an application other than those two, please indicate the name of the application in the “Comments” field.

3. Inspection of Comments, Notices, and Hearing Statements

USTR will maintain a docket on the 2010 Special 301 Notorious Markets Review, accessible to the public. The public file will include all comments received which will be placed in the docket and open to public inspection pursuant to 15 CFR 2006.13, except confidential business information exempt from public inspection in accordance with 15 CFR 2006.15. Comments may be viewed on the http://www.regulations.gov Web site by entering docket number USTR-2010-0029 in the search field on the home page.

Stanford K. McCoy,
Assistant U.S. Trade Representative for Intellectual Property and Innovation.

[FR Doc. 2010-24710 Filed 9-30-10; 8:45 am]

BILLING CODE 3190-W0-P